DEPARTMENT OF COMMERCE

Submission for OMB Review; Comment Request

The Department of Commerce will submit to the Office of Management and Budget (OMB) for clearance the following proposal for collection of information under the emergency provisions of the Paperwork Reduction Act (44 U.S.C. Chapter 35).

Agency: National Institute of Standards and Technology (NIST).

Title: Nomination Applications for Participation in a Forensics Organization of Scientific Area Committees.

OMB Control Number: None.

Form Number(s): NA.

Type of Request: Emergency submission (new information collection).

Number of Respondents: 2,500.

Average Hours per Response: 30 minutes.

Burden Hours: 1,250.

Needs and Uses: The information requested will allow NIST along with the Department of Justice (DOJ) to populate over 500 positions in the newly established Organization of Scientific Area Committees (OSAC) to enable a coordinated U.S. approach to Standards for the Forensic Science Disciplines to include broad participation from forensic science practitioners, researchers, metrologists, accreditation bodies, defense, and prosecution.

NIST needs to determine who wants to serve on the OSAC, which of the thirty organizational components of the OSAC they are interested in working on, and the experience they bring to the OSAC so those selected will reflect a balance of perspectives. The application will be used to for this process.

NIST is requesting expedited review that will allow OSAC participants to be identified by May 2014, which will allow sufficient time to train the members on their responsibilities and guideline development, and to host the inaugural OSAC meeting by the end of FY 2014.

Affected Public: Individuals or households.

Frequency: One-time only.

Respondent's Obligation: Voluntary.

This information collection request may be viewed at http://www.reginfo.gov/public. Follow the instructions to review Department of Commerce collections under review.

Written comments and recommendations for the proposed information collection should be sent by March 31, 2014 to OIRA_Submission@omb.eop.gov or fax no. (202) 395-5806.

Dated: March 10, 2014.
Gwellnar Banks,
Management Analyst, Office of the Chief Information Officer.

[FR Doc. 2014-05599 Filed 3-13-14; 8:45 am]

BILLING CODE 3510-13-P